DEPARTMENT OF ENERGY

Federal Energy Regulatory Commission

[Docket No. RP99-176-062]

Natural Gas Pipeline Company of America; Notice of Negotiated Rates

June 14, 2002.

Take notice that on June 10, 2002, Natural Gas Pipeline Company of America (Natural) tendered for filing to be part of its FERC Gas Tariff, Sixth Revised Volume No. 1, Substitute Original Sheet No. 26A.01 to be effective October 1, 2001.

Natural states that the purpose of this filing is to correct an inadvertent transposition error in an existing negotiated rate transaction entered into by Natural and Aquila Energy Marketing Corporation.

Natural states that copies of the filing are being mailed to all parties set out on the Commission's official service list in Docket No. RP99-176.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-15516 Filed 6-19-02; 8:45 am]

BILLING CODE 6717-01-P